DEPARTMENT OF HEALTH AND HUMAN SERVICES

Agency for Toxic Substances and Disease Registry

[ATSDR-212]

Public Health Assessments Completed

AGENCY: Agency for Toxic Substances and Disease Registry (ATSDR), Department of Health and Human Services (HHS).

ACTION: Notice.

SUMMARY: This notice announces those sites for which ATSDR has completed public health assessments during the period from April through June 2005. This list includes sites that are on or proposed for inclusion on the National Priorities List (NPL) and includes sites for which assessments were prepared in response to requests from the public.

FOR FURTHER INFORMATION CONTACT: William Cibulas, Jr., Ph.D., Director, Division of Health Assessment and Consultation, Agency for Toxic Substances and Disease Registry, 1600 Clifton Road, N.E., Mailstop E-32, Atlanta, GA 30333, telephone (404) 498-0007.

SUPPLEMENTARY INFORMATION: The most recent list of completed public health assessments was published in the Federal Register on June 29, 2005 [70 FR 37409]. This announcement is the responsibility of ATSDR under the regulation “Public Health Assessments and Health Effects Studies of Hazardous Substances Releases and Facilities” [42 CFR part 90]. This rule sets forth ATSDR's procedures for the conduct of public health assessments under section 104(i) of the Comprehensive Environmental Response, Compensation, and Liability Act (CERCLA), as amended by the Superfund Amendments and Reauthorization Act (SARA) [42 U.S.C. 9604 (i)].

Availability

The completed public health assessments are available for public inspection at the Division of Health Assessment and Consultation, Agency for Toxic Substances and Disease Registry, 1825 Century Center Boulevard, Atlanta, Georgia (not a mailing address), between 8 a.m. and 4:30 p.m., Monday through Friday except legal holidays. The completed public health assessments are also available by mail through the U.S. Department of Commerce, National Technical Information Service (NTIS), 5285 Port Royal Road, Springfield, Virginia 22161, or by telephone at (800) 553-6847. NTIS charges for copies of public health assessments. The NTIS order numbers are listed in parentheses following the site name.

Public Health Assessments Completed or Issued

Between April 1, 2005, and June 30, 2005, public health assessments were issued for the sites listed below:

NPL and Proposed NPL Sites

Colorado

Rocky Flats Environmental Technology Site—(PB2005-106307)

Maine

Naval Air Station Brunswick—(PB2005-106879)

Nebraska

Omaha Lead—(PB2005-106280)

New Jersey

Standard Chlorine Chemical Company, Incorporated—(PB2005-106282)

Ohio

Armco Incorporated—Hamilton Plant—(PB2005-107525)

Pennsylvania

Franklin Slag Pile (MDC) Site—(PB2005-106326)

Texas

Jones Road Groundwater Plume—(PB2005-106305)

Utah

Davenport and Flagstaff Smelters (PB2005-106277)

Eureka Mills—(PB2005-106279)

Non-NPL Petitioned Sites

Louisiana

Pab Oil and Chemical Services, Incorporated—(PB2005-106281)

Mississippi

Naval Construction Battalion Center Gulfport—(PB2005-106306)

New York

Village Liberty Water Supply System—Elm Street Well—(PB2005-106308)

Dated: August 30, 2005.
Kenneth Rose,
Acting Director, Office of Policy, Planning, and Evaluation, National Center for Environmental Health/Agency for Toxic Substances and Disease Registry.

[FR Doc. 05-17664 Filed 9-6-05; 8:45 am]

BILLING CODE 4163-70-P